NATIONAL SCIENCE FOUNDATION

Advisory Committee for Integrative Activities; Notice of Meeting

In accordance with the Federal Advisory Committee Act (Pub. L. 92-463, as amended), the National Science Foundation (NSF) announces the following meeting:

Name and Committee Code: Advisory Committee for Integrative Activities (#1373) (Virtual Meeting).

Date and Time: September 30, 2024; 1:00 p.m.-5:00 p.m. (EDT).

Place: National Science Foundation, 2415 Eisenhower Avenue, Alexandria, VA 22314 | Virtual.

Registration for the virtual meeting can be accessed via the following link: https://nsf.zoomgov.com/meeting/register/vJIsc-GurD4sGuCVBvu5uDHP2j4VyC2tIVo.

Type of Meeting: Open.

Contact Person: Dr. Ashley Pierce, Staff Associate, Office of Integrative Activities, Office of the Director, National Science Foundation, 2415 Eisenhower Avenue, Alexandria, VA 22314; (Email: apierce@nsf.gov; Telephone: (703) 292-4493).

Summary of Minutes: May be obtained from the advisory committee website at: https://new.nsf.gov/od/oia/advisory-committee.

Purpose of Meeting: To provide advice and recommendations about public engagement with science.

Agenda

September 30, 2024

1:00 p.m.-1:10 p.m. Welcoming Remarks

1:10 p.m.-5:00 p.m. Introduction and advisory committee purpose, discussion of public engagement with science, and planning future advisory committee activities.

5:00 p.m. Adjourn

Dated: August 30, 2024.
Crystal Robinson,
Committee Management Officer.

[FR Doc. 2024-20063 Filed 9-5-24; 8:45 am]

BILLING CODE 7555-01-P